DEPARTMENT OF COMMERCE

International Trade Administration

[A-580-839]

Certain Polyester Staple Fiber from the Republic of Korea: Extension of Time Limit for the Final Results of the 2007-2008 Antidumping Duty Administrative Review

AGENCY: Import Administration, International Trade Administration, Department of Commerce.

EFFECTIVE DATE: September 18, 2009.

FOR FURTHER INFORMATION CONTACT: Shelly Atkinson or Brandon Farlander, AD/CVD Operations, Office 1, Import Administration, International Trade Administration, U.S. Department of Commerce, 14th Street and Constitution Avenue, NW, Washington, DC 20230, telephone (202) 482-0116 and (202) 482-0182, respectively.

SUPPLEMENTARY INFORMATION:

Statutory Time Limits

Section 751(a)(3)(A) of the Tariff Act of 1930, as amended (“the Act”), requires the Department of Commerce (“the Department”) to issue the preliminary results of an administrative review within 245 days after the last day of the anniversary month of an order for which a review is requested and the final results within 120 days after the date on which the preliminary results are published. If it is not practicable to complete the review within the time period, section 751(a)(3)(A) of the Act allows the Department to extend these deadlines to a maximum of 365 days and 180 days, respectively.

Background

On June 9, 2009, the Department published the preliminary results of the 2007-2008 administrative review of the antidumping duty order on certain polyester staple fiber from the Republic of Korea. See Certain Polyester Staple Fiber from the Republic of Korea: Preliminary Results of the 2007/2008 Antidumping Duty Administrative Review, 74 FR 27281 (June 9, 2009). In our preliminary results, we stated that we would issue our final results for the antidumping duty administrative review no later than 120 days after the date of publication of the preliminary results (i.e., October 7, 2009).

Extension of Time Limits for Final Results

The Department has determined that completion of the final results of this review within the original time period is not practicable because the Department conducted verification late in the proceeding, from July 27, 2009, through July 31, 2009, and needs additional time to analyze information collected at verification in preparation for the final results. Thus, in accordance with section 751(a)(3)(A) of the Act, the Department is extending the time period for issuing the final results of review by an additional 60 days, until December 7, 2009.¹

¹ 60 days from October 7, 2009, is December 6, 2009. However, Department practice dictates that where a deadline falls on a weekend, the appropriate deadline is the next business day. See Notice of Clarification: Application of “Next Business Day” Rule for Administrative Determination Deadlines Pursuant to the Tariff Act of 1930, As Amended, 70 FR 24533 (May 10, 2005).

We are issuing and publishing this notice in accordance with sections 751(a)(3)(A) and 777(i)(1) of the Act.

Dated: September 11, 2009.
John M. Andersen,
Acting Deputy Assistant Secretary for Antidumping and Countervailing Duty Operations.

[FR Doc. E9-22494Filed 9-17-09; 8:45 am]

BILLING CODE 3510-DS-S